DEPARTMENT OF DEFENSE

Office of the Secretary

Availability of the Fiscal Year 2010 United States Special Operations Command (USSOCOM) Inventory List of Contracts for Services; Correction

AGENCY: United States Special Operations Command (USSOCOM), Department of Defense (DoD).

ACTION: Notice of availability; correction.

SUMMARY: On October 25, 2011 (76 FR 66051), DoD published a notice titled Availability of the Fiscal Year 2010 United States Special Operations Command (USSOCOM) Inventory List of Contracts for Services. A web site in this document was incorrectly printed. This notice corrects that error.

FOR FURTHER INFORMATION CONTACT: Marian Duchesne (CTR, Team Jacobs) at (813) 826-6499 or email marian.duchesne@socom.mil.

SUPPLEMENTARY INFORMATION: Subsequent to the publication of the notice described in the SUMMARY, DoD discovered that the web site on page 66051 was printed incorrectly. The correct web site is printed below.

Correction

In the notice (FR Doc. 2011-27457) published on October 25, 2011 (76 FR 66051), make the following correction:

On page 66051, in the third column, the web site at the end of the SUMMARY paragraph should read http://www.socom.mil/sordac/Documents/USSOCOM%20FY10%20Services%20Inventory%20List.pdf.

Dated: October 27, 2011.
Aaron Siegel,
Alternate OSD Federal Register Liaison Officer, Department of Defense.

[FR Doc. 2011-28264 Filed 10-31-11; 8:45 am]

BILLING CODE 5001-06-P